DEPARTMENT OF COMMERCE

National Institute of Standards and Technology

Malcolm Baldrige National Quality Award Board of Overseers

AGENCY: National Institute of Standards and Technology, Department of Commerce.

ACTION: Notice of public meeting.

SUMMARY: Pursuant to the Federal Advisory Committee Act, 5 U.S.C. app. 2, notice is hereby given that there will be a meeting of the Board of Overseers of the Malcolm Baldrige National Quality Award on June 3, 2004. The Board of Overseers is composed of eleven members prominent in the field of quality management and appointed by the Secretary of Commerce, assembled to advise the Secretary of Commerce on the conduct of the Baldrige Award. The purpose of this meeting is to discuss and review information received from the National Institute of Standards and Technology with the members of the Judges Panel of the Malcolm Baldrige National Quality Award. The agenda will include: Discussions on Baldrige Program Strategic Objectives, Booz Allen CEO Study Final Report, Criteria for Baldrige Program Collaborations, Requested Program Rule Changes, and Baldrige Program Metrics, a Program and Budget Update and Issues from June 4 Judges' Meeting. All visitors to the National Institute of Standards and Technology site will have to pre-register to be admitted. Please submit your name, time of arrival, email address and phone number to Virginia Davis no later than Tuesday, June 1, 2004, and she will provide you with instructions for admittance. Ms. Davis' email address is virginia.davis@nist.gov and her phone number is (301) 975-2361.

DATES: The meeting will convene June 3, 2004, at 8:30 a.m. and adjourn at 3 p.m. on June 3, 2004.

ADDRESSES: The meeting will be held at the National Institute of Standards and Technology, Administration Building, Lecture Room D, Gaithersburg, Maryland 20899. Please note admittance instructions under the SUMMARY paragraph.

FOR FURTHER INFORMATION CONTACT: Dr. Harry Hertz, Director, National Quality Program, National Institute of Standards and Technology, Gaithersburg, Maryland 20899, telephone number (301) 975-2361.

Dated: May 6, 2004.
Hratch G. Semerjian,
Acting Director.

[FR Doc. 04-11023 Filed 5-13-04; 8:45 am]

BILLING CODE 3510-13-P